DEPARTMENT OF HOMELAND SECURITY

Science and Technology Directorate; Notice of Availability of the Draft Environmental Impact Statement for the National Biodefense Analysis and Countermeasures Center Facility at Fort Detrick, Frederick, MD

AGENCY: Science and Technology Directorate, DHS.

ACTION: Notice of availability.

SUMMARY: In keeping with the purposes of the National Environmental Policy Act (NEPA), the Department of Homeland Security (DHS), has prepared, in cooperation with the U.S. Army, Fort Detrick, a Draft Environmental Impact Statement (DEIS) for the proposed National Biodefense Analysis and Countermeasures Center (NBACC) Facility for DHS, at Fort Detrick in Frederick, Maryland. The DEIS evaluated the potential environmental impacts associated with the construction and operation of the proposed NBACC Facility.

DATES: DHS and the U.S. Army Garrison of Fort Detrick will hold a joint public hearing to receive comments on the DEIS on Tuesday, October 5, 2004, 7 p.m. to 9 p.m.

ADDRESSES: The meeting will be held at the Governor Thomas Johnson Middle School, 1799 Schifferstadt Boulevard, Frederick, Maryland, 21701.

Comments on the DEIS must be received no later than Monday, November 1, 2004. Additional information on how to submit comments is included in the SUPPLEMENTARY INFORMATION section.

FOR FURTHER INFORMATION CONTACT: Kevin Anderson, 301-846-2156.

SUPPLEMENTARY INFORMATION: The proposed action is construction and operation of the NBACC Facility with laboratory and office space that will enable DHS to safely conduct research to meet program requirements for biological threat characterization and bioforensic programs.:

• The National Bioforensics Analysis Center (NBFAC), designated in Presidential Directive Biodefense for the 21st Century, to be the lead Federal agency for conducting Biodefense analysis of evidence from a bio-crime or terrorist attack to attain a “biological fingerprint” to determine where the agent came from and the perpetration of the attack and

• The Biological Threat Characterization Center (BTCC), for conducting research to better understand current and future biological threats. The mission of the BTCC is to fill scientific knowledge gaps for high-consequence biological threat agents.

Significant issues analyzed in the DEIS included safety of laboratory operations; public health and safety; handling, collection, treatment, and disposal of research wastes; and analysis of other risks, as well as concerns for pollution prevention and impacts of the proposed action on air quality, biological resources, cultural resources, water resources, land use, and socioeconomic resources. Several alternatives were considered, including the No Action Alternative under which the new facility will not be built. The Notice of Intent for preparation of the DEIS was published in the Federal Register (69 FR 31830-31831, June 7, 2004).

Public Participation: To obtain copies of the DEIS or submit comments, please contact Kevin Anderson, Department of Homeland Security, 7435 New Technology Way, Suite A, Frederick, Maryland, 21703, by telephone 301-846-2156, fax 301-682-3662, or e-mail kevin.anderson@dhs.gov. Comments, including names and addresses of respondents, will be available for public review during regular business hours at the above location. All submissions from organizations or businesses and from individuals identifying themselves as representatives or officials of organizations or businesses will be made available for public inspection in their entirety.

Maureen I. McCarthy,
Director, Office of Research and Development, Science and Technology Directorate.

[FR Doc. 04-20994 Filed 9-16-04; 8:45 am]

BILLING CODE 4410-10-P